FEDERAL COMMUNICATIONS COMMISSION

[Report No. AUC-00-35-B (Auction No. 35); DA 00-1246]

Auction of Licenses for C and F Block Broadband PCS Spectrum Postponed Until November 29, 2000

AGENCY: Federal Communications Commission.

ACTION: Notice.

SUMMARY: This document postpones the upcoming auction of C and F Block Broadband Personal Services spectrum scheduled to begin July 26, 2000, in order to provide additional time for bidder preparation and planning. The auction is rescheduled to begin November 29, 2000.

DATES: Auction No. 35 will begin November 29, 2000.

FOR FURTHER INFORMATION CONTACT: Audrey Bashkin, Auctions Legal Branch at (202) 418-0660, or Lisa Stover, Auctions Operations at (717) 338-2888.

SUPPLEMENTARY INFORMATION: This is a summary of a Public Notice released June 7, 2000. The complete text of the public notice is available for inspection and copying during normal business hours in the FCC Reference Center (Room CY-A257), 445 12th Street, SW, Washington, DC 20554. It may also be purchased from the Commission's copy contractor, International Transcription Services, Inc. (ITS, Inc.) 1231 20th Street, NW, Washington, DC 20036, (202) 857-3800. It is also available on the Commission's web site at http://www.fcc.gov.

The upcoming auction of licenses for the C and F Block Broadband Personal Communications Services spectrum, scheduled to begin on July 26, 2000, is postponed until November 29, 2000, in order to provide additional time for bidder preparation and planning. By public notice the Commission will announce the procedures and terms of this auction. The key dates for this auction are listed below:

Filing Deadline for FCC Form 175: October 16, 2000; 6:00 PM ET.

Upfront Payment Deadline: November 6, 2000; 6:00 PM ET.

Mock Auction: November 27, 2000.

Auction Start Date: November 29, 2000.

Federal Communications Commission.
Margaret Wiener,
Deputy Chief, Auctions & Industry Analysis Division.

[FR Doc. 00-15068 Filed 6-14-00; 8:45 am]

BILLING CODE 6712-01-U